DEPARTMENT OF HEALTH AND HUMAN SERVICES

National Institutes of Health

Submission for OMB Review; 30-Day Comment Request; Generic Clearance for NIH Citizen Science and Crowdsourcing Projects (Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Mikia Currie, Chief, Project Clearance Branch, Office of Policy and Extramural Research Administration, Office of the Director, Office of Extramural Research, NIH, 6705 Rockledge Drive, Bethesda, Maryland 20892, MSC 7980, or call non-toll-free number (301) 435-0941 or email your request, including your address to: ProjectClearanceBranch@mail.nih.gov.

SUPPLEMENTARY INFORMATION: This proposed information collection was previously published in the Federal Register on February 14th, 2023, page 9527-9528 (88 FR 9527) and allowed 60 days for public comment. No public comments were received. The purpose of this notice is to allow an additional 30 days for public comment. The Project Clearance Branch, Office of Policy and Extramural Research Administration, Office of the Director, Office of Extramural Research, National Institutes of Health (NIH), may not conduct or sponsor, and the respondent is not required to respond to, an information collection that has been extended, revised, or implemented on or after October 1, 1995, unless it displays a currently valid Office of Management and Budget (OMB) control number.

In compliance with section 3507(a)(1)(D) of the Paperwork Reduction Act of 1995, NIH has submitted to OMB a request for review and approval of the information collection listed below.

Proposed Collection: Generic Clearance for NIH Citizen Science and Crowdsourcing Projects—0925-0766—07/31/2023 Extension, Project Clearance Branch (PCB), Office of Policy and Extramural Research Administration (OPERA), Office of the Director (OD), Office of Extramural Research (OER), National Institutes of Health (NIH).

Need and Use of Information Collection: Projects under this generic clearance will continue to allow Agency researchers and program staff to test ideas more quickly, respond to the project's needs as they evolve, and incorporate feedback from participants for flexible, innovative research methods. The purpose of this information collection is to:

• Accelerate scientific research

• Increase cost-effectiveness to maximize the return on taxpayer dollars

• Address societal needs

• Provide hands-on learning in STEM education

• Connect members of the public directly to federal science missions and each other

• Identify and disseminate resources more broadly to the public, on the Institutes' and Centers' websites, and/or

• Collect information for agency internal use to improve scientific practices and/or assist in scientific reviews

OMB approval is requested for 3 years. There are no costs to respondents other than their time. The total estimated annualized burden hours are 18,584.

Estimated Annualized Burden Hours
Type of collection | Number of respondents | Number of responses per respondent | Time per response (in hours) | Total hours
Call for Nominations/Resources | 1,000 | 1 | 10/60 | 167
Recommendations of scientific reviewers | 1,000 | 1 | 5/60 | 83
Request for Population Characteristics | 20,000 | 1 | 5/60 | 1,667
Repository of Tools and Best Practices | 100,000 | 1 | 10/60 | 16,667
Total | 122,000 |  |  | 18,584

Dated: July 25, 2023.
Tara A. Schwetz,
Acting Principal Deputy Director, National Institutes of Health.

[FR Doc. 2023-16185 Filed 7-28-23; 8:45 am]

BILLING CODE 4140-01-P